FEDERAL COMMUNICATIONS COMMISSION

47 CFR Part 73

[DA 02-1764; MM Docket No. 01-307; RM-10307]

Radio Broadcasting Services; Camp Wood, TX

AGENCY: Federal Communications Commission.

ACTION: Final rule.

SUMMARY: This document allots Channel 271A to Camp Wood, Texas, in response to a petition filed by Linda Crawford. See 66 FR 56630, November 9, 2001. The coordinates for Channel 271A at Camp Wood are 29-48-01 and 100-02-35. There is a site restriction 14.8 kilometers (9.2 miles) north of the community. Although Mexican concurrence has been requested for the allotment of Channel 271A at Camp Wood, notification has not been received. Therefore, operation with the facilities specified for Camp Wood herein is subject to modification, suspension, or termination without right to hearing, if found by the Commission to be necessary in order to conform to the 1992 USA-Mexico FM Broadcast Agreement or if specifically objected to by Mexico. With this action, this proceeding is terminated. A filing window for Channel 271A at Camp Wood will not be opened at this time. Instead, the issue of opening this allotment for auction will be addressed by the Commission in a subsequent order.

DATES: Effective September 16, 2002.

FOR FURTHER INFORMATION CONTACT: Kathleen Scheuerle, Media Bureau, (202) 418-2180.

SUPPLEMENTARY INFORMATION: This is a summary of the Commission's Report and Order, MM Docket No. 01-307, adopted July 17, 2002, and released August 2, 2002. The full text of this Commission decision is available for inspection and copying during regular business hours in the FCC Information Center, Portals II, 445 12th Street, SW., Room CY-A257, Washington, DC 20554. The complete text of this decision may also be purchased from the Commission's duplicating contractor, Qualex International, Portals II, 445 12th Street, SW., Room CY-B402, Washington, DC, 20554, (202) 863-2893, facsimile (202) 863-2898, or via e-mail qualexint@aol.com.

List of Subjects in 47 CFR Part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Texas, is amended by adding Channel 271A at Camp Wood.

Federal Communications Commission.
John A. Karousos,
Assistant Chief, Audio Division, Media Bureau.

[FR Doc. 02-20593 Filed 8-13-02; 8:45 am]

BILLING CODE 6712-01-P